NUCLEAR REGULATORY COMMISSION

Sunshine Federal Register Notice

Agency Holding the Meeting: Nuclear Regulatory Commission.

Date: Weeks of September 17, 24, October 1, 8, 15, 22, 2001.

Place: Commissioners' Conference Room, 11555 Rockville Pike, Rockville, Maryland.

Status: Public and closed.

Matters to be Considered:

Week of September 17, 2001

There are no meetings scheduled for the Week of September 17, 2001.

Week of September 24, 2001-Tentative

Friday, September 28, 2001

9:25 a.m. Affirmation Session (Public Meeting) (if needed).

9:30 a.m. Briefing on Decommissioning Activities and Status (Public Meeting) (Contact: John Buckley, 301-415-6607).

1:30 a.m. Briefing on Threat Environment Assessment (Closed-Ex. 1).

Week of October 1, 2001-Tentative

Thursday, October 4, 2001

9:25 a.m. Affirmation Session (Public Meeting) (if needed).

Week of October 8, 2001-Tentative

There are no meetings scheduled for the Week of October 8, 2001.

Week of October 15, 2001-Tentative

Thursday, October 18, 2001

9:00 a.m. Meeting with NRC Stakeholders—Progress of Regulatory Reform (Public Meeting) (Location—Two White Flint North Auditorium)

Week of October 22, 2001—Tentative

There are no meetings scheduled for the Week of October 22, 2001.

The schedule for Commission meetings is subject to change on short notice. To verify the status of meetings call (recording)—(301) 415-1292. Contact person for more information: David Louis Gamberoni (301) 415-1651.

Additional Information:

By a vote of 4-0 on September 5, the Commission determined pursuant to U.S.C. 552b(e) and 9.107(a) of the Commission's rules that “Affirmation of Final Rule: 10 CFR part 63, Disposal of High-level Radioactive Wastes in a Proposed Geologic Repository at Yucca Mountain Nevada” be held on September 7, and on less than one week's notice to the public.

The NRC Commission Meeting Schedule can be found on the Internet at: http://www.nrc.gov/SECY/smj/schedule.htm.

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: September 13, 2001.
David Louis Gamberoni,
Technical Coordinator, Office of the Secretary.

[FR Doc. 01-23205 Filed 9-13-01; 8:45 am]

BILLING CODE 7590-01-M